DEPARTMENT OF DEFENSE

Department of the Army, U.S. Army Corps of Engineers

Notice of Intent To Prepare a Draft Integrated General Reevaluation Report and Supplemental Environmental Impact Statement, Middle Rio Grande Flood Protection Bernalillo to Belen, New Mexico: Mountain View, Isleta and Belen Units

AGENCY: Department of the Army, U.S. Army Corps of Engineers, DOD.

ACTION: Notice of intent.

SUMMARY: The U.S. Army Corps of Engineers (Corps) intends to prepare a General Reevaluation Report and Supplemental Environmental Impact Statement (GRR/SEIS). This is in compliance with the National Environmental Policy Act (NEPA), for the Middle Rio Grande Flood Protection Bernalillo to Belen, New Mexico Project (Project). This also is the implementation of actions to avoid or minimize potential effects to Endangered Species Act (ESA) listed species and/or associated critical habitat. The GRR/SEIS will supplement the May 1979, Middle Rio Grande Flood Protection Bernalillo to Belen, New Mexico, Final Environmental Impact Statement (FEIS). That document assessed impacts from alternatives to reduce flood risk to structures, infrastructure and life safety. The previously proposed alternative included reconstructing the existing spoil bank system maintained by the Middle Rio Grande Conservancy District (MRGCD) with structurally competent levee system.

ADDRESSES: Comments should be mailed to Albuquerque District, U.S. Army Corps of Engineers, CESPA-PM-LE, Bernalillo to Belen Levee GRR/SEIS, 4101 Jefferson Plaza NE., Albuquerque, NM 87109, or submitted via email to Michael.D.Porter@usace.army.mil, designated by inserting “Bernalillo to Belen Levee SEIS” in the subject line. Comments may also be submitted at public meetings that will be scheduled at a later date.

FOR FURTHER INFORMATION CONTACT: Questions about the proposed action and SEIS can be answered by contacting Dr. Michael D. Porter, Fishery Biologist, Albuquerque District, U.S. Army Corps of Engineers, CESPA-PM-LE, 4101 Jefferson Plaza NE., Albuquerque, NM 87109, by phone at (505) 342-3264; or via email to Michael.D.Porter@usace.army.mil designated by including “Bernalillo to Belen Levee SEIS” in the subject line.

SUPPLEMENTARY INFORMATION: The original spoil banks were constructed by MRGCD as part of their authority to drain wetlands and deliver irrigation water.

Preparation of this GRR/SEIS became necessary due to the changes that have occurred since the project was authorized as described below. A longer period of record for hydrological data is now available to allow improved and updated hydrological analysis. New levee design criteria that address long duration flows have also been adopted by the Corps in 1993. Any proposed plan now has to incorporate new design features that prevent seepage through the levee or its foundation due to prolonged flow against the riverward toe. The Corps has adopted a probabilistic determination of flood risk to perform levee design. Three species that have been listed as threatened or endangered since 1994 occur within the study area (two with critical habitat). These include the Western Yellow-billed Cuckoo, the Southwestern Willow Flycatcher, and the Rio Grande Silvery Minnow.

The GRR/SEIS will investigate and determine the extent of Federal interest in a range of alternative plans designed to reduce the risk of flooding in the communities between Albuquerque and Belen. The GRR/SEIS will describe the risk of flooding in the communities between Albuquerque and Belen; evaluate a range of alternatives to reduce flood risk and potential environmental impacts; and describe measures to minimize or mitigate for potential environmental impacts.

On November 27, 1995, the Corps published the notice of intent (NOI) to prepare the SEIS for the MRG GRR study in the Federal Register (Vol. 60, No. 227).

Previously Proposed Action: The Corps has previously proposed a Tentatively Selected Plan for the Project to rehabilitate the spoil bank system with an engineered levee in four Middle Rio Grande Units. The levee for the Mountain View (4.4 miles), Isleta West (3.2 miles), Belen East (18.1 miles), and Belen West Units (22.1 miles) are designed to provide protection for the 0.1% probability flood. The Corps initiated consultation with the U.S. Fish and Wildlife Service (Service) on the effects of the Project on species listed under the ESA. As part of that consultation, the Corps has proposed several conservation measures that would modify structures or operation and maintenance of the Project. The Service is preparing a Biological Opinion (BiOp) and the Corps expects that the Service may incorporate the conservation measures as part of the BiOp. The Corps will need to complete applicable environmental compliance, including evaluation under NEPA, prior to adopting and implementing any terms and conditions in the BiOp. The proposed GRR/SEIS would constitute that evaluation under NEPA. The Corps has proposed several measures to improve conditions for listed species, including the actions described in the Public Involvement Process section below, subject to authority and funding:

Public Involvement Process: Coordination has been ongoing since 2008 with both public and private entities that have jurisdiction or an interest in land and resources in the Middle Rio Grande Valley of New Mexico. These entities include the general public, local governments, the Pueblo of Isleta, the U.S. Bureau of Reclamation, the Service, the MRGCD, the New Mexico Department of Game and Fish, and the Interstate Stream Commission. Coordination will continue throughout the development of the SEIS through comment letters, public meetings and field visits. All interested parties, including federal, state, tribal, and public entities, will be invited to submit comments on the draft SEIS when it is circulated for review.

The planning effort is also being coordinated with the Service pursuant to the requirements of the Fish and Wildlife Coordination Act of 1972 and the ESA of 1973, as amended. Consultation with the Advisory Council on Historic Preservation and the New Mexico State Historic Preservation Officer is ongoing pursuant to the National Historic Preservation Act of 1966.

Significant Issues To Be Analyzed: Significant issues to be analyzed in the development of the SEIS include the effect of the alternatives on endangered or threatened species and their critical habitat; floodplain development; water quality; riparian ecological systems; social welfare; human safety; cultural resources; and aesthetic qualities. Development of mitigation measures will be undertaken for any unavoidable impacts.

Request for Review Comments: The Corps invites affected federal, state, and local agencies, affected Native American tribes, and other interested organizations and persons to participate in the review of the GRR/SEIS. The Corps invites interested parties to provide specific comments on issues and the preferred alternative in the GRR/SEIS related to the construction of the Project. Comments, requests to be placed on the GRR/SEIS mailing list, and requests for information may be submitted to the address above. All comments and materials received, including names and addresses, will become part of the administrative record and may be released to the public. Interested parties should not submit confidential business or otherwise sensitive or protected information.

Public Scoping Meeting: The Corps currently plans to conduct public review meetings for this GRR/SEIS in 2017. The exact date, time, and location of the public meetings has not yet been determined. The Corps will publicize this information once the meeting arrangements have been made. The draft GRR/SEIS is currently scheduled to be available for public review in summer 2017. The final GRR/SEIS is currently scheduled to be available for public review in spring 2018.

James L. Booth,
Lieutenant Colonel, U.S. Army, District Commander.

[FR Doc. 2017-10075 Filed 5-17-17; 8:45 am]

BILLING CODE P